DEPARTMENT OF HEALTH AND HUMAN SERVICES

Centers for Disease Control and Prevention

[30Day-38-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: The Role of Power and Control in Intimate Partner Violence—New—The National Center for Injury Prevention and Control (NCIPC), Centers for Disease Control and Prevention (CDC).

CDC plans to draw a sample of individuals convicted of battering in the Dallas County Domestic Violence Court, and a sample of men living in Dallas County. The study participants will include two samples of men, who will be asked to complete a survey developed and tested by experts in the field of psychology and sociology. The study will include psychological assessments of attachment depression, anger and sociological assessments of peer support for violence, attitudes toward violence, and attitudes toward sex roles.

The data will be collected to further understand the psychological and sociological correlates of battering (e.g., male battering of female partners), which will in turn assist in developing models for intervention programs. The estimated annualized burden is 899 hours.

Data collection activity | Number of respondents | Frequency of response | Average burden per response (in hours)
Screener In-person Sample | 583 | 1 | 6/60
Screener *RDD Sample | 1,400 | 1 | 6/60
**IPV Survey | 700 | 1 | 1
*Random Digit Dialing Sample.
**Intimate Partner Violence Survey.

Dated: April 28, 2004.
Alvin Hall,
Director, Management Analysis and Services Office, Centers for Disease Control and Prevention.

[FR Doc. 04-10293 Filed 5-5-04; 8:45 am]

BILLING CODE 4163-18-P